DEPARTMENT OF TRANSPORTATION

Surface Transportation Board

[STB Finance Docket No. 34553]

Idaho & Sedalia Transportation Company, LLC—Lease Exemption—Idaho Northern & Pacific Railroad Company

Idaho & Sedalia Transportation Company, LLC (I&S), a noncarrier, has filed a verified notice of exemption under 49 CFR 1150.31 to lease from Idaho Northern & Pacific Railroad Company (INPR) and operate 5 miles of rail line between milepost 94.68, near Cascade, and milepost 99.68, at Cascade, ID.

I&S certifies that its projected revenues as a result of this transaction will not result in I&S becoming a Class II or Class I rail carrier, and further certifies that its projected revenues will not exceed $5 million. The transaction was scheduled to be consummated on or shortly after September 22, 2004.

If the verified notice contains false or misleading information, the exemption is void ab initio. Petitions to revoke the exemption under 49 U.S.C. 10502(d) may be filed at any time. The filing of a petition to revoke does not automatically stay the transaction.

An original and 10 copies of all pleadings, referring to STB Finance Docket No. 34553, must be filed with the Surface Transportation Board, 1925 K Street, NW., Washington, DC 20423-0001. In addition, a copy of each pleading must be served on Karl Morell, Ball Janik LLP, Suite 225, 1455 F Street, NW., Washington, DC 20005.

Board decisions and notices are available on its Web site at http://www.stb.dot.gov.

Decided: October 7, 2004.
By the Board, David M. Konschnik, Director, Office of Proceedings.
Vernon A. Williams,
Secretary.

[FR Doc. 04-23050 Filed 10-14-04; 8:45 am]

BILLING CODE 4915-01-P